DEPARTMENT OF LABOR

Employment and Training Administration

[TA-W-64,619]

Chrysler, LLC, Twinsburg Stamping Plant, Including On-Site Leased Workers From Caravan Knight Facilities Management LLC and Wackenhut Security, Twinsburg, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 4, 2009, applicable to workers of Chrysler, LLC, Twinsburg Stamping Plant, Twinsburg, Ohio. The notice was published in the Federal Register on March 3, 2009 (74 FR 9282).

At the request of the State agency, the Department reviewed the certification for workers of the subject firm. The workers are engaged in the production of metal automotive stampings, a substantial portion of which are shipped to an affiliated plant where they are used in the assembly of automotive vehicles.

New information shows that workers leased from Caravan Knight Facilities Management LLC and Wackenhut Security were employed on-site at the Twinsburg, Ohio location of Chrysler, LLC, Twinsburg Stamping Plant. The Department has determined that these workers were sufficiently under the control of the subject firm to be considered leased workers.

Based on these findings, the Department is amending this certification to include workers leased from Caravan Knight Facilities Management LLC and Wackenhut Security working on-site at the Twinsburg, Ohio location of Chrysler, LLC, Twinsburg Stamping Plant.

The amended notice applicable to TA-W-64,619 is hereby issued as follows:

“All workers of Chrysler, LLC, Twinsburg Stamping Plant, including on-site leased workers from Caravan Knight Facilities Management LLC and Wackenhut Security, Twinsburg, Ohio, who became totally or partially separated from employment on or after December 2, 2007, through February 4, 2011, are eligible to apply for adjustment assistance under Section 223 of the Trade Act of 1974, and are also eligible to apply for alternative trade adjustment assistance under Section 246 of the Trade Act of 1974.”

Signed at Washington, DC, this 29th day of June 2009.
Richard Church,
Certifying Officer, Division of Trade Adjustment Assistance.

[FR Doc. E9-22763 Filed 9-21-09; 8:45 am]

BILLING CODE 4510-FN-P